DEPARTMENT OF JUSTICE

Antitrust Division

Notice Pursuant to the National Cooperative Research and Production Act of 1993—Members of SGIP 2.0, Inc.

Notice is hereby given that, on August 4, 2014, pursuant to Section 6(a) of the National Cooperative Research and Production Act of 1993, 15 U.S.C. 4301 et seq. (“the Act”), Members of SGIP 2.0, Inc. (“MSGIP 2.0”) has filed written notifications simultaneously with the Attorney General and the Federal Trade Commission disclosing changes in its membership. The notifications were filed for the purpose of extending the Act's provisions limiting the recovery of antitrust plaintiffs to actual damages under specified circumstances. Specifically, Businovation, LLC, Basking Ridge, NJ; Idaho National Laboratory, Idaho Falls, ID; Verday, LLC, St. Louis, MO; and Inmetro, Rio Comprido—Rio de Janeiro, Brazil, have been added as parties to this venture.

Also, Facilities Electrical Consulting Services, Easton, PA; Raytheon Trusted Computer Solutions, Herndon, VA; HD-PLC Alliance, Hakata-ku, Fukuoka, Japan; IE Technologies, Windsor, CO; Cox Software Architects LLC, Summit, NJ; SmartGrid Network, Chicago, IL; Tansy Energy Network, Scott Valley, CA; TC9, Inc., Pittsboro, NC; Pentric, Inc., Sparks, NV; Air Conditioning, Heating & Refrigeration Institute, Arlington, VA; and Public Utility Commission of Texas, Austin, TX, have withdrawn as parties to this venture.

No other changes have been made in either the membership or planned activity of the group research project. Membership in this group research project remains open, and MSGIP 2.0 intends to file additional written notifications disclosing all changes in membership.

On February 5, 2013, MSGIP 2.0 filed its original notification pursuant to Section 6(a) of the Act. The Department of Justice published a notice in the Federal Register pursuant to Section 6(b) of the Act on March 7, 2013 (78 FR 14836).

The last notification was filed with the Department on May 23, 2014. A notice was published in the Federal Register pursuant to Section 6(b) of the Act on June 19, 2014 (79 FR 35186).

Patricia A. Brink,
Director of Civil Enforcement, Antitrust Division.

[FR Doc. 2014-20896 Filed 9-2-14; 8:45 am]

BILLING CODE P